DEPARTMENT OF ENERGY

Federal Energy Regulatory Commission

[Docket No. RP00-169-000]

Natural Gas Pipeline Company of America; Notice of Proposed Changes in FERC Gas Tariff

February 1, 2000.

Take notice that on January 28, 2000, Natural Gas Pipeline Company of America (Natural) tendered for filing certain tariff sheets to be part of its FERC Gas Tariff, Sixth Revised Volume No. 1, to be effective March 1, 2000.

Natural states that the purpose of this filing is to implement a new Rate Schedule FRSS, under which Natural would provide a firm “reverse” storage service. Although this new service is available to all customers, it is primarily designed to meet the needs of the electric generation market during the summer peak period for electric demand. This new service mirrors some of the fundamental elements of Natural's Rate Schedule DSS, but with injection and withdrawal seasons reversed. Both are delivered firm storage services with no-notice delivery rights, but Rate Schedule DSS primarily supports traditional winter withdrawals for customers with peak demand in the heating season. By contrast, all withdrawals under new Rate Schedule FRSS must be made during the summer and would be followed by winter injections. Natural also states that conforming tariff changes have also been made in the General Terms and Conditions in its Tariff.

Natural requests waiver of the Federal Energy Regulatory Commission's Regulations to the extent necessary to permit the tariff sheets submitted to become effective March 1, 2000.

Natural states that copies of the filing have been mailed to its customers and interested state regulatory agencies.

Any person desiring to be heard or to protest filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-2087-2222 for assistance).

David P. Boergers,
Secretary.

[FR Doc. 00-2653 Filed 2-4-00; 8:45 am]

BILLING CODE 6717-01-M